SECURITIES AND EXCHANGE COMMISSION

[Release No. 34-68574; File No. SR-Phlx-2012-130]

Self-Regulatory Organizations; NASDAQ OMX PHLX LLC; Order Approving Proposed Rule Change To Amend Performance Evaluations With Respect to Quote Submissions of Streaming Quote Traders and Remote Streaming Quote Traders

January 3, 2013.

Correction

In notice document 2013-00201, appearing on pages 1906-1907 in the issue of Wednesday January 9, 2013, make the following correction:

On page 1906, in the second column, the Subject is corrected to read as set forth above.

[FR Doc. C1-2013-00201 Filed 1-22-13; 8:45 am]

BILLING CODE 1505-01-D